DEPARTMENT OF THE TREASURY

Senior Executive Service; Departmental Offices Performance Review Board

AGENCY: Treasury Department.

ACTION: Notice of members of the Departmental Offices Performances Review Board.

SUMMARY: Pursuant to 5 U.S.C. 4314(c)(4), this notice announces the appointment of members of the Departmental Offices Performance Review Board (PRB). The purpose of this Board is to review and make recommendations concerning proposed performance appraisals, ratings, bonuses and other appropriate personnel actions for incumbents of SES positions in the Departmental Offices, excluding the Legal Division. The Board will perform PRB functions for other bureau positions if requested.

Composition of Departmental Offices PRB: The Board shall consist of at least three members. In the case of an appraisal of a career appointee, more than half the members shall consist of career appointees. The names and titles of the Board members are as follows:

• Bae, James J., Director, Strategic Planning & Performance Improvement

• Baukol, Andy P., Deputy Assistant Secretary for Mid-East and Africa

• Banks, Carol, Director, Office of Accounting and Internal Controls

• Berry, Elizabeth, Director, African Nations

• Blair, Anita K., Deputy Assistant Secretary for Human Resources and Chief Human Capital Officer

• Cavella, Charles J., Deputy Assistant Secretary for Security

• Cole, Lorraine, Director, Office of Minority and Women Inclusion

• Coley, Anthony, Deputy Assistant Secretary for Public Affairs

• Dohner, Robert S., Deputy Assistant Secretary for South and East Asia

• Drysdale, David, Director, Office of Trade Finance

• East, Robyn C., Deputy Assistant Secretary and Chief Information Officer

• Farrell, Paula F., Director, Office of Policy and Legislative Review

• Gerardi, Geraldine, Director for Business and International Taxation

• Hammerle, Barbara C., Deputy Director, Office of Foreign Assets Control

• Harvey, Mariam G., Associate Chief Human Capital Officer for Civil Rights and Diversity

• Jaskowiak, Mark M., Deputy Assistant Secretary for Investment Security

• Kershbaum, Sharon, Deputy Assistant Secretary for Management & Budget

• Koide, Melissa, Deputy Assistant Secretary for the Office of Consumer Policy

• Madon, Michael P., Deputy Assistant Secretary for Intelligence Community Integration

• McDonald, William L., Deputy Assistant Secretary for Technical Assistance Policy

• Monroe, David J., Director, Office of Fiscal Projections

• Morrow, Sheryl R., Deputy Assistant Secretary for Fiscal Operations and Policy

• Ostrowski, Nancy, Director, Office of DC Pensions

• Pabotoy, Barbara, Associate Chief Human Capital Officer for Executive & Human Capital Services

• Phillips, Dawn, Associate Chief Human Capital Officer for Policy, Performance & Learning

• Reger, Mark Anthony, Deputy Assistant Secretary for Accounting Policy

• Roth, Dorrice, Deputy Chief Financial Officer

• Sobel, Mark D., Deputy Assistant Secretary for International Monetary and Financial Policy

• Steele, Charles M., Associate Director, Office of Enforcement, Office of Foreign Assets Control

• Tran, Luyen, Director, Mid-East and North Africa

DATES: Effective Date: Membership is effective on the date of this notice.

FOR FURTHER INFORMATION CONTACT: Mario R. Minor, Senior Human Resources Specialist, 1500 Pennsylvania Avenue NW., ATTN: Room 6W529, 6th Floor, Washington, DC 20220, Telephone: 202-622-0774.

This notice does not meet the Department's criteria for significant regulations.

Barbara B. Pabotoy,
Associate Chief Human Capital Officer, Executive and Human Capital Services.

[FR Doc. 2013-29415 Filed 12-10-13; 8:45 am]

BILLING CODE 4810-25-P